DEPARTMENT OF ENERGY

Federal Energy Regulatory Commission

[Project No. 15245-000]

PacifiCorp; Notice of Preliminary Permit Application Accepted for Filing and Soliciting Comments, Motions To Intervene, and Competing Applications

On October 13, 2021, PacifiCorp filed an application for a preliminary permit, pursuant to section 4(f) of the Federal Power Act, proposing to study the feasibility of the Saddle Mountains Pumped Storage Project (Saddle Mountains Project or project) to be located near Crab Creek and the Columbia River in Grant County, Washington. The sole purpose of a preliminary permit, if issued, is to grant the permit holder priority to file a license application during the permit term. A preliminary permit does not authorize the permit holder to perform any land-disturbing activities or otherwise enter upon lands or waters owned by others without the owners' express permission.

Two alternatives are being considered for the Saddle Mountains Project. Alternative 1 would consist of the following new facilities: (1) An upper reservoir located approximately 7 miles east of Beverly, Washington, with a surface area of 312 acres and a storage volume of approximately 4,750 acre-feet created by a 1,300-foot-long, 25-foot-high embankment dam; (2) a lower reservoir with a surface area of 115 acres and a storage volume of approximately 4,000 acre-feet created by a 6,775-foot-long, 75-foot-high embankment dam; (3) a 1.5-mile-long steel penstock with a diameter of 23-feet (if only one generating unit is used) or trifurcating into three separate 13.25-foot-diameter segments (if three generating units are used) connecting the upper reservoir with the powerhouse/pump station; (4) a 150-foot-long, 50-foot-wide concrete powerhouse/pump station located on the lower reservoir shoreline containing up to three generating/pumping units for a total generating capacity of 500 megawatts (MW); (5) an approximate 9.0-mile, 230-kilovolt (kV) transmission line interconnecting to a new substation west and north of the project reservoirs and adjacent to the existing Vantage BPA substation that would interconnect to the regional transmission grid; (6) an approximately 10-mile-long underground pipeline diverting water for construction, initial fill, and annual maintenance fill (i.e., water would be sourced west and north of the project reservoirs from one or more of the following: Surface water, the Columbia River and/or its tributaries, groundwater, or storage water); and, (7) appurtenant facilities.

The majority of the facilities for Alternative 2 (i.e., project reservoirs, penstock, and powerhouse, etc.) would be located approximately 3 miles east of their counterparts under Alternative 1. Alternative 2 would consist of the following new facilities: (1) An upper reservoir with a surface area of 100 acres and a storage volume of approximately 3,300 acre-feet created by a 2,370-foot-long, 190-foot-high embankment dam; (2) a lower reservoir with a surface area of 84 acres and a storage volume of approximately 4,000 acre-feet created by a 8,450-foot-long, 60-foot-high embankment dam; (3) a 0.6-mile-long steel penstock with a diameter of 23-feet (if only one generating unit is used) or trifurcating into three separate 13.25-foot-diameter segments (if three generating units are used) connecting the upper reservoir with the powerhouse/pump station; (4) a 150-foot-long, 50-foot-wide concrete powerhouse/pump station located on the lower reservoir shoreline containing up to three generating/pumping units for a total generating capacity of 500 MW; (5) an approximate 12.7-mile, 230-kV transmission line interconnecting to the same substation under Alternative 1; (6) an approximately 10-mile-long underground pipeline diverting water for construction, initial fill, and annual maintenance fill (i.e., water would be sourced west of the project reservoirs and south of the source location for Alternative 1 from one or more of the following: Surface water, the Columbia River and/or its tributaries, groundwater, or storage water); and, (7) appurtenant facilities.

The estimated annual generation of the Saddle Mountains Project would be 1,460 gigawatt-hours.

Applicant Contact: Tim Hemstreet, Managing Director, Renewable Energy Development, PacifiCorp, 825 NE Multnomah, Suite 1800, Portland, OR 97232; email: Tim.Hemstreet@pacificorp.com; phone: (503) 813-6170.

FERC Contact: Michael Tust; email: michael.tust@ferc.gov; phone: (202) 502-6522.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-15245-000.

More information about this project, including a copy of the application, can be viewed or printed on the “eLibrary” link of Commission's website at https://www.ferc.gov/ferc-online/elibrary. Enter the docket number (P-15245) in the docket number field to access the document. For assistance, contact FERC Online Support.

Dated: January 3, 2022.
Kimberly D. Bose,
Secretary.

[FR Doc. 2022-00088 Filed 1-6-22; 8:45 am]

BILLING CODE 6717-01-P